DEPARTMENT OF HEALTH AND HUMAN SERVICES

Centers for Disease Control and Prevention

[30Day-21-1129]

Agency Forms Undergoing Paperwork Reduction Act Review

In accordance with the Paperwork Reduction Act of 1995, the Centers for Disease Control and Prevention (CDC) has submitted the information collection request titled Improving Fetal Alcohol Spectrum Disorders Prevention and Practice through National Partnerships to the Office of Management and Budget (OMB) for review and approval. CDC previously published a “Proposed Data Collection Submitted for Public Comment and Recommendations” notice on October 13, 2020 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Improving Fetal Alcohol Spectrum Disorders Prevention and Practice through National Partnerships (OMB Control No. 0920-1129, Exp. 8/31/2019)—Reinstatement with Change—National Centrer for Birth Defects and Developmental Disabilities (NCBDDD), Centers for Disease Control and Prevention (CDC).

Background and Brief Description

The National Center on Birth Defects and Developmental Disabilities (NCBDDD) seeks to collect training evaluation data from healthcare practitioners and staff in health systems where FASD-related practice and systems changes are implemented, and from grantees of national partner organizations related to prevention, identification, and treatment of fetal alcohol spectrum disorders (FASDs).

Prenatal exposure to alcohol is a leading preventable cause of birth defects and developmental disabilities. The term “fetal alcohol spectrum disorders” describes the full continuum of effects that can occur in an individual exposed to alcohol in utero. These effects include physical, mental, behavioral, and learning disabilities. All of these have lifelong implications. The purpose of this program is to build upon previous efforts from FASD training programs and shift the perspective from individual training for practicing healthcare professionals to one that capitalizes on prevention opportunities and the ability to impact health care practice at the systems level.

Since 2002, CDC funded FASD Regional Training Centers (RTCs) to provide education and training to healthcare professionals and students about FASD prevention, identification, and treatment. In July 2013, CDC convened an expert review panel to evaluate the effectiveness of the RTC program overall and to make recommendations about the program. The panel highlighted several accomplishments of the RTCs and proposed several changes for future programming: (1) The panel identified a need for more comprehensive coverage nationally with discipline-specific trainings, increased use of technology, greater collaboration with medical societies, and stronger linkages with national partner organizations to increase the reach of training opportunities, and (2) The panel suggested that the training centers focus on demonstrable practice change and sustainability and place a stronger emphasis on primary prevention of FASDs. In addition, it was recommended that future initiatives have stronger evaluation components.

Based on the recommendations of the expert review panel, CDC is placing increased focus on prevention, demonstrating practice change, achieving national coverage, and strengthening partnerships between medical societies and national partner organizations. While a major focus of the grantees' work will be national, regional approaches will be used to develop new content and “test out” feasibility and acceptability of materials, especially among healthcare providers and medical societies.

CDC requests OMB approval to collect program evaluation information from (1) healthcare practitioners from disciplines targeted by each grantee, including training participants, and (2) health system staff.

Healthcare practitioners will complete surveys to provide information on whether project trainings impacted their knowledge and practice behavior regarding FASD identification, prevention, and treatment. The information will be used to improve future trainings and assess whether knowledge and practice changes occurred. Some participants will also complete qualitative key informant interviews to gain additional information on practice change. Health system employees will be interviewed or complete surveys as part of activities to assess readiness of healthcare systems to implement recommended practice changes.

Estimated Annualized Burden Hours
Type of respondents | Form name | Number of respondents | Number of responses per respondent | Average burden per response (in hours)
Health Professionals | Health Professionals Survey | 4,013 | 1 | 9/60
FASD Core Training Participants | FASD Core Training Survey—Pre-Test | 4,013 | 1 | 9/60
FASD Core Training Participants | FASD Core Training Survey—Post-Test | 4,013 | 1 | 5/60
Nurses | Health Professionals Survey (Nursing) | 667 | 1 | 9/60
Nurses | Key Informant Interviews with Champions | 14 | 2 | 45/60
Certified Medical Assistants and students | Medical Assistant—Pre-Test Survey | 334 | 1 | 10/60
Certified Medical Assistants and students | Medical Assistant—Post-Test Survey | 334 | 1 | 10/60
Certified Medical Assistants and students | Medical Assistants Change in Practice Survey | 250 | 1 | 15/60
Pediatricians | Pre-Test Screening, Assessment, and Diagnosis | 120 | 1 | 10/60
Pediatricians | Post-Test Screening, Assessment, and Diagnosis | 120 | 1 | 10/60
Pediatricians | Pre-Test ND-PAE | 120 | 1 | 10/60
Pediatricians | Post-Test ND-PAE | 120 | 1 | 10/60
Pediatricians | Pre-Test Treatment Across the Lifespan | 120 | 1 | 7/60
Pediatricians | Post-Test Treatment Across the Lifespan | 120 | 1 | 7/60
Family medicine physicians, social workers, social work students | Social Work and Family Physicians Pre-training Survey | 1,167 | 1 | 8/60
Family medicine physicians, social workers, social work students | Social Work and Family Physicians 6-Month Follow Up Survey | 1,167 | 1 | 8/60
Health Systems Professionals | TCU Organizational Readiness Survey | 246 | 2 | 10/60

Jeffrey M. Zirger,
Lead, Information Collection Review Office, Office of Scientific Integrity, Office of Science, Centers for Disease Control and Prevention.

[FR Doc. 2021-01916 Filed 1-27-21; 8:45 am]

BILLING CODE 4163-18-P